DEPARTMENT OF DEFENSE

Office of the Secretary

TRICARE; Fiscal Year 2014 Continued Health Care Benefit Program Premium Update

AGENCY: Office of the Secretary, DoD.

ACTION: Notice of Updated Continued Health Care Benefit Program Premiums for Fiscal Year 2014.

SUMMARY: This notice provides the updated Continued Health Care Benefit Program Premiums for Fiscal Year 2014.

DATES: The Fiscal Year 2014 rates contained in this notice are effective for services on or after October 1, 2013.

ADDRESSES: TRICARE Management Activity, Policy and Benefits Branch, 7700 Arlington Boulevard, Suite 5101, Falls Church, Virginia 22042-5101.

FOR FURTHER INFORMATION CONTACT: Mark A. Ellis, telephone (703) 681-0039.

SUPPLEMENTARY INFORMATION: The final rule published in the Federal Register (FR) on September 30, 1994 (59 FR 49818) sets forth rules to implement the Continued Health Care Benefit Program (CHCBP) required by 10 U.S.C. 1078a. Included in this final rule were provisions for updating the CHCBP premiums for each federal Fiscal Year. As stated in the final rule, the premiums are based on Federal Employee Health Benefit Program employee and agency contributions required for a comparable health benefits plan, plus an administrative fee. Premiums may be revised annually and shall be published annually for each Fiscal Year. TRICARE Management Activity has updated the quarterly premiums for Fiscal Year 2014 as shown below:

Quarterly CHCBP Premiums for Fiscal Year 2014

Individual $1,193.

Family $2,682.

The above premiums are effective for services rendered on or after October 1, 2013.

Dated: September 18, 2013.
Aaron Siegel,
Alternate OSD Federal Register Liaison Officer, Department of Defense.

[FR Doc. 2013-23023 Filed 9-20-13; 8:45 am]

BILLING CODE 5001-06-P